DEPARTMENT OF HEALTH AND HUMAN SERVICES

National Institutes of Health

National Institute on Drug Abuse; Amended Notice of Meeting

Notice is hereby given of a change in the meeting of the National Institute on Drug Abuse Special Emphasis Panel, February 13, 2024, 10:00 a.m. to February 14, 2024, 05:00 p.m., National Institute of Health, National Institute on Drug Abuse, 301 North Stonestreet Avenue, Bethesda, MD 20892 which was published in the Federal Register on November 24, 2023, FR Doc 2023-25938, 88 FR 82387.

This notice is being amended to change the meeting date from February 13-14, 2024 to February 14, 2024. The meeting time and location will remain the same. The meeting is closed to the public.

Dated: January 10, 2024.
Lauren A. Fleck,
Program Analyst, Office of Federal Advisory Committee Policy.

[FR Doc. 2024-00667 Filed 1-12-24; 8:45 am]

BILLING CODE 4140-01-P